ENVIRONMENTAL PROTECTION AGENCY

[FRL-8013-8]

Environmental Economics Research Strategy

AGENCY: Environmental Protection Agency.

ACTION: Notice of availability of a final document.

SUMMARY: The U.S. Environmental Protection Agency (EPA) is today announcing the availability of its Environmental Economics Research Strategy, EPA/600/R-04/195. The Environmental Economics Research Strategy identifies and prioritizes environmental economics and decision science research that will be conducted over the next several years to improve the scientific foundation for EPA's decision-making and policy initiatives.

ADDRESSES: A limited number of copies of the Environmental Economics Research Strategy will be available from the National Service Center for Environmental Publications. Request a copy by telephoning 1-800-490-9198 or 513-489-8190 and providing the title and the EPA number for the document, EPA/600/R-04/195. Internet users may download a copy from the EPA's Office of Research and Development home page at http://www.epa.gov/ord/htm/documents/econresearch.pdf. The strategy is also available on EPA's National Center for Environmental Economics home page at http://yosemite.epa.gov/ee/epa/eed.nsf/webpages/homepage.

FOR FURTHER INFORMATION CONTACT: Dr. William Wheeler, National Center for Environmental Research (8722F), U.S. Environmental Protection Agency, 1200 Pennsylvania Avenue, NW., Washington, DC 20460, telephone: 202-343-9828; facsimile: 202-233-0678; E-mail: wheeler.william@epa.gov or Dr. Brian Heninger, National Center for Environmental Economics (1809T), U.S. Environmental Protection Agency, 1200 Pennsylvania Avenue, NW., Washington, DC 20460, telephone: 202-566-2270; facsimile: 202-566-2338; E-mail: heninger.brian@epa.gov.

SUPPLEMENTARY INFORMATION: The Environmental Economics Research Strategy was developed to guide future environmental economics research at the Agency. This research strategy outlines EPA's effort to provide the necessary behavioral science foundation for making decisions and designing environmental policies at the least cost to American businesses and consumers. To be effective the Agency must understand how people and firms make decisions about and affect the environment, and, in turn, how the environment affects Americans' quality of life. The environmental economics research described in this strategy will become a cornerstone of the economic analyses that EPA needs to develop environmental policy.

The Environmental Economics Research Strategy was developed by a team from the National Center for Environmental Economics (NCEE) and the National Center for Environmental Research (NCER) working with EPA program offices, the Office of Research and Development (ORD) laboratories and centers, and EPA regions. NCEE provides research support and economic guidance to EPA programs, and NCER manages an economics and decision sciences research grants program. The strategy identifies priorities and research gaps, evaluates research tools, sets strategic research objectives, and suggests responsibilities and sequences for conducting or sponsoring research. EPA programs, other Federal agencies, academics, states, local governments, and others can consult the strategy to understand what EPA has planned and the results the Agency expects.

The Environmental Economics Research Strategy is in two volumes; the first volume is the strategy itself outlined in four chapters, and the second volume contains seven appendices. Chapter 1 explains the background for developing the strategy. Chapter 2 reports the main findings from the needs assessment survey and workshop. Chapter 3 describes how EPA evaluated the remaining gaps in the research literature in priority economic research areas and developed strategic research goals to implement. Chapter 4 describes the research tools or approaches available to implement the strategy and how EPA plans to use these tools to generate and communicate needed research results. The appendices provide more detail on the needs assessment process and results, discuss the relationship of the strategy to other documents, compare the advantages of different research tools available to EPA, and present the external peer review comments and responses.

This Environmental Economics Research Strategy was subjected to external peer review by the Environmental Economics Advisory Committee of EPA's Science Advisory Board. The final strategy reflects the comments of both internal and external review.

Dated: December 19, 2005.
George Gray,
Assistant Administrator for Research and Development.

[FR Doc. E5-7780 Filed 12-22-05; 8:45 am]

BILLING CODE 6560-50-P